GENERAL SERVICES ADMINISTRATION

[Notice-MG-2016-03; Docket No. 2016-0002; Sequence 16]

Office of Federal High-Performance Green Buildings; Green Building Advisory Committee; Request for Membership Nominations; Correction

AGENCY: Office of Federal High-Performance Green Buildings, General Services Administration (GSA).

ACTION: Notice of Solicitation of Nominations for Membership; Correction.

SUMMARY: GSA published a notice in the Federal Register on July 20, 2016 at 81 FR 47172, regarding Green Building Advisory Committee; Request for Membership Nominations. GSA is making an editorial change to the SUPPLEMENTARY INFORMATION section to correct a date.

DATES: Effective: July 26, 2016.

FOR FURTHER INFORMATION CONTACT: Mr. Ken Sandler, Office of Federal High Performance Green Buildings, GSA, 202-219-1121. Please cite Notice-MG-2016-03; Correction.

SUPPLEMENTARY INFORMATION:

Correction

In the notice FR Doc. 2016-17145 published in the Federal Register at 81 FR 47172, July 20, 2016, make the following correction:

On page 47172, in the third column, third line from bottom, remove “August 1” and add “August 8” in its place.

Brian Gilligan,
Acting Federal Director, Office of Federal High-Performance Green Buildings, Office of Government-wide Policy.

[FR Doc. 2016-17650 Filed 7-25-16; 8:45 am]

BILLING CODE 6820-14-P